CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed new information collection AmeriCorps State and National Community Impact Survey. CNCS will collect information on service activities and scope from AmeriCorps grantees in order to evaluate the program's impact on the communities they serve. CNCS will also collect information from grantee partners in order to develop a more comprehensive understanding of the impact of CNCS AmeriCorps investments. Participation in data collection efforts is not required to be considered to obtain support from CNCS.

Copies of the information collection request can be obtained by contacting the office listed in the Addresses section of this Notice.

DATES: Written comments must be submitted to the individual and office listed in the ADDRESSES section by May 5, 2014.

ADDRESSES: You may submit comments, identified by the title of the information collection activity, by any of the following methods:

(1) By mail sent to: Corporation for National and Community Service, Office of Research and Evaluation; Attention Anthony Nerino, Research Associate, Rm #10913A; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

While previous evaluation efforts have confirmed CNCS's impact on volunteers and organizations, such as increased education, skills, and volunteer activity, the current effort will be the first evaluation of whether and how CNCS is achieving its central goal of building overall community capacity and how increasing community capacity affects change in those areas. Survey results will allow CNCS to assess whether its grantee programs are improving communities, and which targeted outcomes CNCS is most effective in achieving (e.g., citizen-led action, organizational collaboration). Results also will inform the Corporation of the range of civic capacity among the communities it serves. These findings will inform policy and program improvement efforts. Information will be collected electronically via SurveyMonkey and through telephone interviews.

Current Action

This is a new information collection request.

Type of Review: New.

Agency: Corporation for National and Community Service.

Title: AmeriCorps State and National Community Impact Survey.

OMB Number: None.

Agency Number: None.

Affected Public: AmeriCorps grantees and their community partners.

Total Respondents: 200.

Frequency: Once.

Average Time per Response: 30 minutes.

Estimated Total Burden Hours: 100.

Total Burden Cost (capital/startup): None.

Total Burden Cost (operating/maintenance): None.

Comments submitted in response to this notice will be summarized and/or included in the request for Office of Management and Budget approval of the information collection request; they will also become a matter of public record.

Dated: February 26, 2014.
Mary Hyde,
Acting Director, Research and Evaluation.

[FR Doc. 2014-04659 Filed 3-3-14; 8:45 am]

BILLING CODE 6050-28-P